DEPARTMENT OF LABOR

Employment and Training Administration

[TA-W-56,484]

Renee's Manufacturing, Inc., San Francisco, CA; Notice of Negative Determination Regarding Application for Reconsideration

By application of April 7, 2005 a petitioner requested administrative reconsideration of the Department's negative determination regarding eligibility for workers and former workers of the subject firm to apply for Trade Adjustment Assistance (TAA) and Alternative Trade Adjustment Assistance (ATAA). The denial notice was signed on March 4, 2005 and published in the Federal Register on April 1, 2005 (70 FR 16846). Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Renee's Manufacturing, San Francisco, California sewing women's tops, bottoms, blouses and skirts on a contract basis was denied because the “contributed importantly” group eligibility requirement of Section 222 of the Trade Act of 1974 was not met. The “contributed importantly” test is generally demonstrated through a survey of the workers' firm's customers. The survey revealed no imports of women's tops, bottoms, blouses and skirts during the relevant period. The subject firm did not import women's tops, bottoms, blouses and skirts in the relevant period nor did it shift production to a foreign country.

In the request for reconsideration, the petitioner alleges that the layoffs at the subject firm are attributable to a shift in production to a foreign country. A company official was contacted regarding the above allegations. The company official stated that no production has been shifted from the subject firm to a foreign country and currently, there are no such plans.

Should the shift abroad occur, the petitioners are encouraged to file a new petition on behalf of workers at the Renee's Manufacturing, San Francisco, California, thereby creating a new period of investigation that would include changing conditions.

Conclusion

After review of the application and investigative findings, I conclude that there has been no error or misinterpretation of the law or of the facts which would justify reconsideration of the Department of Labor's prior decision. Accordingly, the application is denied.

Signed at Washington, DC, this 2nd day of May, 2005.
Linda G. Poole,
Certifying Officer, Division of Trade Adjustment Assistance.

[FR Doc. E5-2401 Filed 5-13-05; 8:45 am]

BILLING CODE 4510-30-P